DEPARTMENT OF HOUSING AND URBAN DEVELOPMENT

[Docket No. FR-5228-N-01]

Notice of Funding Availability (NOFA) for Rental Assistance for Non-Elderly Persons With Disabilities in Support of Designated Housing Plans

AGENCY: Office of the Assistant Secretary for Public and Indian Housing, HUD.

ACTION: Notice of Funding Availability for Fiscal Year (FY) 2008 for Rental Assistance for Non-Elderly Persons with Disabilities in Support of Designated Housing Plans.

SUMMARY: This NOFA announces the availability of approximately $15 million in one-year budget authority for Housing Choice Vouchers (HCVs) for non-elderly disabled families. This NOFA is governed by the information and instructions found in the Notice of HUD's FY2008 Notice of Funding Availability; Policy Requirements and General Section (General Section) to HUD's FY2008 NOFAs for Discretionary Programs that HUD published in the Federal Register on March 19, 2008 (73 FR 14882), the SuperNOFA Introduction published on May 12, 2008 (73 FR 27032), and the correction published on June 12, 2008, (73 FR 33446).

FOR FURTHER INFORMATION CONTACT: Questions regarding specific program requirements should be directed to the agency contact identified in this program NOFA. Questions regarding the March 10, 2008 (73 FR 12751) Notice of FY2008 Opportunity to Register Early and Other Important Information for Electronic Application Submission Via Grants.gov, the General Section of March 19, 2008, the SuperNOFA Introduction of May 12, 2008, or the correction of June 12, 2008, should be directed to the Office of Departmental Grants Management and Oversight at (202) 708-0667 (this is not a toll-free number) or the NOFA Information Center at (800) HUD-8929 (toll-free). Persons with hearing or speech impairments may access these numbers via TTY by calling the Federal Information Relay Service at (800) 877-8339. The NOFA Information Center is open between the hours of 10 a.m. and 6:30 p.m. eastern time, Monday through Friday, except federal holidays.

SUPPLEMENTARY INFORMATION:

Through today's publication, HUD is making available approximately $15 million in one-year budget authority for Housing Choice Vouchers (HCVs) for non-elderly disabled families. This funding is expected to provide assistance to approximately 2,000 non-elderly disabled families and will enable public housing agencies (PHAs) to provide sufficient alternative resources to meet the housing needs of those non-elderly disabled families who would have been housed by the PHA if occupancy in a designated public housing project or building (or portion thereof) were not restricted to elderly households through the approval of a Designated Housing Plan.

As is HUD's practice in publishing the SuperNOFA, the NOFA published today provides the statutory and regulatory requirements, threshold requirements, and other factors applicable to funding being made available. Applicants for assistance under this NOFA must also refer to the 2008 General Section published on March 19, 2008, and subsequent supplementary information and technical corrections noted in the Summary section above for important application information and requirements (including submission requirements) which have changed this year.

Applicants must submit their applications electronically through http://www.grants.gov. If applicants have questions concerning the registration process, registration renewal, assigning a new Authorized Organization Representative, or have a question about a NOFA requirement, please contact HUD staff identified in this program NOFA. HUD staff cannot help the applicant write the application, but can clarify requirements that are contained in the 2008 General Section of this Notice, and in HUD's registration materials.

New applicants should note that they are required to complete a five-step registration process in order to submit their applications electronically. The 2008 General Section, included in the instructions download materials on http://www.grants.gov (Grants.gov), provides a step-by-step explanation of the registration process, as well as where to find, on HUD's Web site, materials prepared by HUD to help guide applicants through the registration and application submission process.

Applications and Instructions have been posted to Grants.gov. HUD encourages applicants to subscribe to the Grants.gov free notification service. By doing so, applicants will receive an e-mail notification as soon as items are posted to the Web site. The address to subscribe to this service is http://www.grants.gov/search/email.do. By joining the notification service, if a modification is made to the NOFA, applicants will receive an e-mail notification that a change has been made.

HUD encourages applicants to carefully read the 2008 General Section and this NOFA. Carefully following the directions provided can make the difference in a successful application submission.

Overview Information

A. Federal Agency Name. Department of Housing and Urban Development, Office of Public and Indian Housing.

B. Funding Opportunity Title. Rental Assistance for Non-Elderly Persons with Disabilities in Support of Designated Housing Plans.

C. Announcement Type: Initial announcement.

D. Funding Opportunity Number: OMB Approval Numbers applicable to this NOFA are 2577-0169 and 2577-0083.

E. Catalog of Federal Domestic Assistance (CFDA) Number(s): 14.871, Section 8 Housing Choice Vouchers.

F. Dates:

1. Application Submission Date: The application deadline date is January 30, 2009. Applications must be received and validated by Grants.gov by 11:59 p.m. on the application deadline date. The validation check can take 24 to 48 hours after an application is received by Grants.gov. As a result, HUD strongly encourages applicants to submit their applications 48 to 72 hours prior to the application deadline date. See the 2008 General Section for application submission, faxing instructions, and timely receipt requirements. HUD will not accept an entire application submitted by fax.

2. Estimated Funding Award Date. The estimated award date will be June or July 2009.

G. Additional Important Overview Information:

1. This NOFA announces the availability of $15 million in one-year budget authority for HCVs for non-elderly disabled families in support of Designated Housing Plans that designate public housing units for occupancy by elderly families only. This funding is expected to provide assistance to approximately 2,000 non-elderly disabled families.

Funding made available through this NOFA will enable non-elderly disabled families to access affordable private housing. The HCV funding will enable PHAs to provide sufficient alternative resources to meet the housing needs of those non-elderly disabled families who would have been housed by the PHA if occupancy in a designated public housing project or building (or portion thereof) were not restricted to elderly households through the approval of a Designated Housing Plan.

2. Electronic Application Submission. Applications for this NOFA must be submitted electronically through http://www.grants.gov/applicants/apply_for_grants.jsp. Registration or required annual re-registration to submit an application electronically may take more than a week because of the following: (1) The applicant's requirement to register with the Central Contractor Registration (CCR), (2) the cross-checking of applicant identification numbers between CCR and the Internal Revenue Service (IRS), (3) applicant registration with the Grants.gov Web site, and (4) the applicant's requirement to register the official who will be submitting the application. HUD's Early Registration Notice can be obtained through HUD's Web site at http://www.hud.gov/grants/.

3. Match. None required.

4. Application materials. Application materials may be obtained from http://www.grants.gov/applicants/apply_for_grants.jsp. Any technical corrections will be published in the Federal Register and posted to Grants.gov. Frequently asked questions will be posted on HUD's Web site at http://www.hud.gov/offices/adm/grants/otherhud.cfm and http://www.hud.gov/offices/pih/programs/ph/hope6/grants/fy08/.

5. 2008 General Section Reference. Section I, “Funding Opportunity Description” of the 2008 General Section and subsequent supplementary information and technical corrections published in the Federal Register, are hereby incorporated by reference.

6. Other 2008 General Section References. See “Other Submission Requirements” in Section IV.F. of this NOFA and the 2008 General Section for detailed information about application submission.

Full Text of Announcement

I. Funding Opportunity Description

A. Available Funds. This NOFA announces the availability of approximately $15 million in FY 2008 funds.

B. Purpose of this program. Vouchers under this NOFA will assist non-elderly disabled families that would have been housed by a PHA if occupancy in the designated public housing project/building (or portion thereof) were not restricted to elderly households.

C. Legal Authority. Title II of Division K of the Consolidated Appropriations Act, 2008 (Pub. L. 110-161) provides appropriations for incremental vouchers to assist non-elderly disabled families affected by the designation of a public housing development under section 7 of the United States Housing Act of 1937, as amended.

D. Definitions of Terms. The following definitions apply to funding available under this NOFA.

1. Designated Housing Plan. A HUD-approved Designated Housing Plan is required of PHAs that have designated a project/building (or portion thereof) for occupancy by elderly families only. Public and Indian Housing (PIH) Notice 2005-2 (HA), Requirements for Designation of Public Housing Projects, explains the process for such designation. This Notice was most recently extended by Notice PIH 2008-10 (HA). Copies of PIH Notices referenced in this NOFA may be downloaded at http://www.hudclips.org.

2. Elderly Family. A family whose head, spouse, or sole member is 62 years or older. It may include two or more elderly persons living together, or one or more elderly persons living with one or more persons determined under the public housing agency plan to be essential to their care or well being.

3. Non-elderly Disabled Family. A family that does not meet the definition of an elderly family whose head, spouse, or sole member is a person with disabilities.

4. Person with disabilities.

a. Has a disability as defined in Section 223 of the Social Security Act (42 U.S.C. 423);

b. Is determined, pursuant to regulations issued by the Secretary, to have a physical, mental, or emotional impairment which: (i) Is expected to be of long-continued and indefinite duration; (ii) substantially impedes his or her ability to live independently; and (iii) is of such a nature that such ability could be improved by more suitable housing conditions; or

c. Has a developmental disability as defined in Section 102 of the Developmental Disabilities Assistance and Bill of Rights Act of 2000 (42 U.S.C. 6001); and

d. Such term shall not exclude persons who have the disease of acquired immunodeficiency syndrome or any conditions arising from the etiologic agent for acquired immunodeficiency syndrome. Notwithstanding any other provision of law, no individual shall be considered a person with disabilities for purposes of eligibility for low-income housing solely on the basis of any drug or alcohol dependence.

II. Award Information

A. Available Funds. This NOFA announces the availability of $15 million in one-year budget authority for HCVs for non-elderly disabled families in support of Designated Housing Plans that designate public housing units for occupancy by elderly families only. This funding is expected to provide assistance to approximately 2,000 non-elderly disabled families.

Any funds remaining unobligated under this NOFA will first be used to fund any approvable applications under HUD's NOFA entitled Rental Assistance for Non-Elderly Persons with Disabilities Related to Certain Types of Section 8 Project-Based Developments and Section 202, Section 221(d)(3) and Section 236 Developments (Certain Developments), for which there are insufficient funds. Conversely, any funds remaining unobligated after funding approvable applications under the Certain Developments NOFA will be made available to fund approvable applications under this NOFA. Further, pursuant to the Consolidated Appropriations Act, 2008, any funds still remaining unobligated under this announcement or the Certain Developments NOFA will be made available for other non-elderly disabled families through a subsequent NOFA.

B. HCV Funding Process. HUD will only fund one application per PHA under this announcement. This one-application-per-PHA limit applies regardless of whether or not the PHA is a state or regional PHA.

1. Maximum Voucher Request. A PHA may apply for only the number of vouchers needed to house those non-elderly disabled families that otherwise would have been housed if not for the designation of a project/building (or portion thereof) for occupancy by elderly only. PHAs are limited to applying for no more than the number of public housing units that were designated under an approved Designated Housing Plan, the number of non-elderly disabled families on the public housing waiting list for those units at the time of designation, or 100 vouchers, whichever is less.

2. Determination of Funding Amount for the Applicant's Requested Number of Vouchers. HUD's Housing Voucher Financial Management Division will determine the amount of one-year budget authority that an applicant will be awarded under this NOFA based on the PHA's per unit cost for 2008 renewal funding or 2009 renewal funding if those costs are available. Administrative fees are not included in this funding and will be determined in accordance with section 10 of Public and Indian Housing (PIH) Notice 2008-15 (HA) or a subsequent administrative fee notice (a copy of all PIH notices referenced in this NOFA may be downloaded at http://www.hudclips.org). PIH Moving to Work (MTW) agencies will be funded under this NOFA in accordance with their MTW agreements.

3. Unfunded Approvable Applications. PHAs with approvable applications that are not funded in whole or in part due to insufficient funds available under this NOFA will not be funded.

III. Eligibility Information

A. Eligible Applicants. PHAs that currently administer a HCV program are eligible to apply for funding under this NOFA.

B. Cost Sharing or Matching. None required.

C. Other Requirements.

1. Eligible Activities. HCVs awarded under this NOFA will be subject to all of the requirements of 24 CFR part 982 with exceptions noted in regard to waiting list selection in section III.C.3. MTW agencies may administer these vouchers in accordance with their MTW agreements unless they are inconsistent with Appropriations Act requirements or the requirements of this NOFA. All PHAs (including MTW agencies) must comply with the requirements of PIH Letter 2007-1 (New Freedom Initiative, Executive Order 13217: “Community-Based Alternatives for Individuals with Disabilities,” and the Housing Choice Voucher Program) which extended Notice PIH 2006-21 (HA) which reinstated Notice PIH Notice 2005-5 (HA). These requirements include, but are not limited to, re-issuance upon turnover of these vouchers to non-elderly disabled families on the PHA's waiting list and entering appropriate data into the Public and Indian Housing Information Center (PIC). In addition, Section 213 of the FY 2008 Appropriations Act states that amounts available under this Act or previous appropriations acts for tenant-based rental assistance and used for non-elderly disabled families or for the Family Unification Program shall, to the extent practicable, remain available for each respective purpose upon turnover.

2. Threshold Requirements.

a. All applicants must meet all threshold requirements in Section III.C of the 2008 General Section with the following exceptions:

(1) Section III.C.2.d. (Conducting Business in Accordance with Core Values and Ethical Standards). To reflect core values, all applicant PHAs shall develop and maintain a written code of conduct in the PHA's administrative plan that:

(a) Requires compliance with the conflict of interest requirements of the HCV program cited in 24 CFR 982.161; and

(b) Prohibits the solicitation or acceptance of gifts or gratuities in excess of a nominal value by an officer or employee of the HA or any contractor, subcontractor, or agent of the PHA. The PHA's administrative plan shall state the PHA policies concerning PHA administrative and disciplinary remedies for violation of the PHA code of conduct. The PHA shall inform all officers, employees and agents of its organization of the PHA's code of conduct.

(2) Section III.C.4.b.(1) through (3) (Specific Steps to Affirmatively Furthering Fair Housing). The PHA must comply with Section III.C.4.b. of the General Section; the exceptions only apply to providing specific steps in the application. In addition, prior to the application due date under this NOFA, each applicant must submit to the public housing director in the applicant's local HUD field office an addendum to the applicant's HCV administrative plan that outlines reasonable steps the applicant will take to affirmatively further fair housing in regard to the vouchers awarded under this NOFA. Reasonable steps must include: (a) Identifying non-elderly disabled families on its public housing waiting list that will not be housed due to an approved or submitted Designated Housing Plan; and (b) Inform individuals on how to file a fair housing complaint including the provision of the toll free number for the Housing Discrimination Hotline: 1-800-669-9777. Further, an applicant must comply with the affirmatively furthering fair housing requirements of 24 CFR Section 903.7(o) by: (1) Examining its programs or proposed programs; (2) identifying any impediments to fair housing choice within those programs; (3) addressing those impediments in a reasonable fashion in view of the resources available; (4) working with local jurisdictions to implement any of the jurisdiction's initiatives to affirmatively further fair housing that require the PHA's involvement; and (5) maintaining records reflecting these analyses and actions. Further, applicant PHAs are encouraged to take the following proactive steps in addressing accessibility problems for persons with disabilities: (1) Where requested by an individual, assist program applicants and participants to gain access to supportive services available within the community, but not require eligible applicants or participants to accept supportive services as a condition of continued participation in the program; (2) Identify public and private funding sources to assist participants with disabilities in covering the costs of structural alterations and other accessibility features that are needed as accommodations for their disabilities; (3) Not deny persons who qualify for a HCV under this program other housing opportunities, or otherwise restrict access to PHA programs to eligible applicants who choose not to participate; (4) Provide housing search assistance; (5) In accordance with rent reasonableness requirements, approve higher rents to owners that provide accessible units with structural modifications for persons with disabilities, and (6) Provide technical assistance, through referrals to local fair housing and equal opportunity offices, to owners interested in making reasonable accommodations or units accessible to persons with disabilities.

b. Applications under this NOFA must also meet the following threshold requirements to be eligible for funding under this NOFA.

(1) Each applicant must have a HUD-approved Designated Housing plan. These Designated Housing Plans must be listed on the following Web site: http://www.hud.gov/offices/pih/programs/ph/dhp/designated.cfm (Click on MS-Excel file).

(2) Each applicant must meet the PIC reporting requirements under PIH Notice 2007-29 (HA) that will be assessed for the month immediately preceding the month in which the applications under this NOFA are due. This threshold requirement will not apply to MTW agencies.

(3) Each applicant must have achieved points (15 or 20) under the Section 8 Management Assessment Program (SEMAP) leasing indicator (24 CFR 985.3(n)) and not be designated as troubled for its most recent assessed fiscal year. MTW agencies that are not required to report under SEMAP shall be held to the 95 percent lease-up and budget authority utilization requirements referenced above. These MTW agencies are required to submit a certification with their application certifying that they are not required to report under SEMAP, and that they meet the 95 percent lease-up or budget authority utilization requirements.

(4) The PHA applicant must not have any major unresolved program management findings from an Inspector General audit, HUD management review or Independent Public Accountant (IPA) audit for the PHA's HCV program or other significant program compliance problems (such as fair housing and/or civil rights violations or findings) that were not resolved prior to this NOFA's application deadline. Major program management findings, or significant program compliance problems, are those that would cast doubt on the capacity of the applicant to effectively administer any new HCV funding in accordance with applicable HUD regulatory and statutory requirements.

(5) The PHA must not be involved in litigation where HUD determines that the litigation may seriously impede the ability of the applicant to administer the vouchers.

3. Eligible Participants. Non-elderly disabled families that are income eligible under 24 CFR 982.201(b)(1) and were on the PHA's public housing waiting list at the time of designation may receive a HCV awarded under this NOFA. Such families need not be listed on the PHA's HCV waiting list in order to be offered a voucher. These families may be admitted to the HCV program as special admissions under 24 CFR Section 982.203. Additional information on the eligibility requirements is located on the following HUD Web site: www.hud.gov/offices/pih/programs/hcv/pwd/designated.cfm.

4. Environmental Review. In accordance with 24 CFR 50.19(b)(11) and 58.35(b)(1) of the HUD regulations, tenant-based rental activities under this program are categorically excluded from the requirements of the National Environmental Policy Act of 1969 (NEPA) and are not subject to environmental review under the related laws and authorities. Activities under the homeownership option for existing units and for units under construction at the time the family enters into the contract for sale are categorically excluded from NEPA requirements and excluded from other environmental requirements under 24 CFR 58.5 in accordance with 24 CFR Section 58.35(b)(5), but PHAs are responsible for the environmental requirements in 24 CFR Section 982.626(c). With regard to activities under the homeownership option for units not yet under construction at the time the family enters into the contract for sale, the additional environmental review requirements referenced in 24 CFR 982.628(e), 982.631(c)(3) and 982.637(b) also apply in addition to Section 982.626(c), and the PHA shall submit all relevant environmental information to the responsible entity or to HUD to assist in the completion of those requirements.

IV. Application and Submission Information

A. Addresses to Request Application Package. Please read the 2008 General Section under Section IV.A. for full details on Web sites, electronic forms and electronic applicant submission requirements.

B. Content and Form of Application Submission. Please carefully read Section IV. of the 2008 General Section.

1. Content of Application under this NOFA.

a. Each PHA must complete the following forms:

(1) Form HUD-52515, Funding Application, Section 8 Tenant-Based Assistance, Rental Certificate Program, Rental Voucher Program.

(A) When completing this form, only complete the box for total dwelling units under vouchers in section B. Do not complete section C.

(B) In section D of the form, the PHA must include the following information related to its HUD-approved Designated Housing Plan:

(i) The number of vouchers requested, which may not exceed: (a) The number of units designated for elderly families only in its approved Designated Housing Plan; (b) the number of non-elderly disabled families on the PHA's waiting list for those units at the time of designation (which must be stated in the application); or (c) 100 whichever is less;

(ii) The number of previously awarded vouchers for units designated for elderly families only in its approved Designated Housing Plan;

(iii) The minimum number of vouchers that the PHA will accept if selected under a lottery system (See Section V.B.3. below).

(2) Form SF-424, Application for Federal Assistance. When completing this form, the Federal Identifier requested in section 5a is the PHA's five digit number (e.g., MD035 or AK002). PHA applicants should estimate proposed start date and end date in section 17. In Section 18 (Estimated Funding), complete only 18.a and 18.g. The amount entered in both fields should be the total number of vouchers requested in Section B of the form HUD-52515 times the per housing assistance payments unit cost for 2008 HCV renewal funding or the per unit cost for 2009 renewal funding, if those costs are available.

(3) Form HUD-2880, Applicant/Recipient Disclosure/Update Report;

(4) Form HUD-2993, Acknowledgment of Application Receipt;

(5) Form HUD-96011, Third Party Documentation Facsimile Transmittal; if applicable for cover letter;

(6) Form HUD-2991, Certification of Consistency with the Consolidated Plan, or a copy of the signed PHA Certification of Compliance for its current Annual PHA Plan; and

(7) SF-LLL, Disclosure of Lobbying Activities, if applicable.

C. Submission Date and Time. Your completed application must be received and validated by Grants.gov no later than 11:59:59 p.m. eastern time on the application deadline date.

D. Intergovernmental Review. This NOFA is not subject to Executive Order 12372, Intergovernmental Review of Federal Programs.

E. Funding Restrictions. Funds under this NOFA may only be used for housing assistance for eligible participants and may not be used for performance of routine HCV program functions that are reimbursed through HCV administrative fees.

F. Other Submission Requirements. See section IV.F.3. of the 2008 General Section. Electronic application submission is mandatory unless an applicant requests, and is granted, a waiver to the requirement. Applicants should submit their waiver requests in writing using e-mail. Waiver requests must be submitted no later than 15 days prior to the application deadline date and should be submitted to Danielle.L.Bastarache@hud.gov and Phyllis.A.Smelkinson@hud.gov. The subject line of the e-mail message should be FY 2008 Designated Housing NOFA Waiver Request. If an applicant is granted a waiver, then the approval will provide instructions for submitting paper copies to the appropriate HUD office(s). All paper applications must be received by the application deadline date to meet the requirements for timely submission.

V. Application Review Information

A. Criteria.

1. Factors Used to Evaluate and Rate Applications. None.

B. Review and Selection Process.

1. Technically Acceptable Applications. All technically acceptable applications that meet the threshold criteria of section III.C.2. above will be funded to the extent funds are available.

a. Funding Priority Categories. None.

b. Order of Funding. If funding under this NOFA is not available to fund all applications received by the NOFA deadline, a lottery will be used until all funding is exhausted

c. Insufficient Funds. Not applicable.

2. Corrections to Deficient Applications. The 2008 General Section provides the procedures for corrections to deficient applications. Please note that clarifications or corrections of technical deficiencies in accordance with the information provided by HUD to the applicant must be submitted within 14 calendar days of the date of receipt of the HUD notification.

3. Unacceptable Applications. After the technical deficiency correction period (as provided in the 2008 General Section), the HUD Grants Management Center (GMC) will disapprove PHA applications that it determines are not acceptable for processing. Applications from PHAs that fall into any of the following categories are ineligible for funding under this NOFA and will not be processed:

a. Any PHA that does not meet the threshold requirements of the 2008 General Section.

b. Any PHA that does not meet the threshold requirements of Section III.C.

c. A PHA's whose application does not comply with the requirements of this NOFA after the expiration of the 14-calendar day technical deficiency correction period.

d. A PHA whose application was submitted after the application due date.

e. A PHA whose application was not submitted to the official place of receipt.

C. Anticipated Announcement and Award Dates. It is anticipated that award announcements will take place during the month of June or July, 2009.

VI. Award Administration Information

A. Award Notices. Successful applicants will receive an award letter from HUD. Funding will be provided to successful applicants as an amendment to the Annual Contributions Contract of the applicant PHA.

Unsuccessful applicants will receive a notification of rejection letter from the GMC that will state the basis for the decision. The applicant may request an applicant debriefing. Beginning not less than 30 days after the awards for assistance are announced publicly, upon receiving a written request, HUD will provide a debriefing to the requesting applicant. (See the 2008 General Section for additional information regarding a debriefing.) Applicants requesting to be debriefed must send a written request to: Keia Neal, Acting Director, Grants Management Center, U.S. Department of Housing and Urban Development, 501 School Street, SW., Suite 800, Washington, DC 20024.

B. Administrative and National Policy Requirements.

1. HUD's Strategic Goals. HUD is committed to ensuring that programs result in the achievement of HUD's strategic mission. HCVs awarded under this NOFA support the Department's strategic goals of: (1) Increasing homeownership opportunities, and (2) promoting decent, affordable housing by expanding access to these opportunities for non-elderly persons with disabilities. For more information about HUD's Strategic Plan and Annual Performance Plan, you may visit HUD's Web site at http://www.hud.gov/offices/cfo/reports/cforept.cfm.

2. HUD Policy Priorities. HCVs awarded under this NOFA supports HUD's policy of: Providing increased homeownership and rental opportunities for low- and moderate-income persons with disabilities.

C. Reporting. Successful applicants (including MTW agencies) must report the usage of voucher funds under this NOFA through required submissions of the form HUD-50058, Family Report. PHAs must enter the program code “PHDES” on line 2n of the Family Report for families who are assisted with vouchers under this NOFA. PHAs must maintain this code on the form HUD-50058 for the duration of the family's participation in the HCV program. HUD's assessment of PHA compliance under this NOFA will be based on PIC system data.

VII. Agency Contacts

A. For Technical Assistance. For answers to your questions, you may contact the Public and Indian Housing Resource Center at 1-800-955-2232. Persons with hearing or speech impairments may access this number via TTY (text telephone) by calling the Federal Information Relay Service at 1-800-877-8339. (These are toll-free numbers.) Prior to the application deadline, staff at the numbers given above, will be available to provide general guidance, but not guidance in actually preparing the application. Following selection, but prior to award, HUD staff will be available to assist in clarifying or confirming information that is a prerequisite to the offer of an award by HUD.

VIII. Other Information

A. Paperwork Reduction Act. The information collection requirements contained in this document have been approved by the Office of Management and Budget (OMB) under the Paperwork Reduction Act (PRA) of 1995 (44 U.S.C. 3501-3520) and assigned OMB control numbers 2577-0169 and 2577-0083. In accordance with the PRA, HUD may not conduct or sponsor, and a person is not required to respond to, a collection of information unless the collection displays a currently valid OMB control number.

B. Public Access, Documentation, and Disclosure. See Section VIII. G. of the 2008 General Section.

C. Environmental Impact. This NOFA provides funding under, and does not alter the environmental requirements of 24 CFR part 982. Accordingly, under 24 CFR 50.19(c)(5), the NOFA is categorically excluded from environmental review under the National Environmental Policy Act of 1969 (42 U.S.C. 4321). For environmental review of activities funded under this NOFA, see requirements described in section III.C.4 above.

Dated: November 18, 2008.
Paula O. Blunt,
General Deputy Assistant Secretary for Public and Indian Housing.

[FR Doc. E8-28234 Filed 11-26-08; 8:45 am]

BILLING CODE 4210-67-P